DEPARTMENT OF ENERGY

Federal Energy Regulatory Commission

[Docket No. RM02-3-000; Order 627]

18 CFR Part 101,201, and 352

Accounting and Reporting of Financial Instruments, Comprehensive Income, Derivatives and Hedging Activities

AGENCY: Federal Energy Regulatory Commission.

ACTION: Final rule; notice of correction.

SUMMARY: The Federal Energy Regulatory Commission published in the Federal Register of November 6, 2002, a final rule amending its regulations to update its accounting and financial reporting requirements under its Uniform Systems of Accounts. The effective date is incorrect as published. This document corrects the effective date of the Final Rule to be December 6, 2002.

DATES: The date of the final rule published November 6, 2002, (67 FR 67692) is corrected from January 6, 2003 to December 6, 2002.

FOR FURTHER INFORMATION CONTACT:

Mark Klose (Technical Information), Office of the Executive Director, Federal Energy Regulatory Commission, 888 First Street, NE., Washington, DC 20426, (202) 502-8283.

Julia A. Lake (Legal Information), Office of the General Counsel, Federal Energy Regulatory Commission, 888 First Street, NE., Washington, DC 20426, (202) 502-8370.

SUPPLEMENTARY INFORMATION: The Federal Energy Regulatory Commission published in the Federal Register of November 6, 2002 a Final Rule amending its regulations to update its accounting and financial reporting requirements under its Uniform Systems of Accounts. The effective date is incorrect as published in the Federal Register. In the Federal Register Document 02-26809 published on November 6, 2002 (67 FR 67692) make the following correction: On page 67692, in the second column, correct the EFFECTIVE DATE section to read as follows:

“EFFECTIVE DATE: The rule will become effective December 6, 2002.”

Linwood A. Watson, Jr,
Deputy Secretary.

[FR Doc. 02-29571 Filed 11-19-02; 8:45 am]

BILLING CODE 6717-01-P